DEPARTMENT OF COMMERCE

Bureau of Industry and Security

15 CFR Parts 740, 742, 762 and 774

[Docket No. 030213032-3032-01]

RIN 0694-AB87

Exports and Reexports of Explosives Detection Equipment and Related Software and Technology; Imposition and Expansion of Foreign Policy Controls

AGENCY: Bureau of Industry and Security, Commerce.

ACTION: Interim rule with request for comments.

SUMMARY: The Bureau of Industry and Security (BIS) is amending the Export Administration Regulations to expand the scope of explosives detection equipment controlled under Export Classification Control Number (ECCN) 2A983, previously 2A993, to include equipment that detects the presence of explosives, explosive residue, or detonators. BIS is also expanding controls on the export and reexport of such explosives detection equipment by imposing regional stability (RS) controls and clarifying the previously-existing anti-terrorism (AT) controls on this equipment. BIS is also imposing RS and AT controls on related software and technology, previously EAR99, but now classified under newly created ECCNs 2D983 and 2E983. This rule makes available for most destinations the use of License Exception Servicing and Replacement of Parts and Equipment (RPL) for one-for-one replacement of parts, and servicing and replacement of explosives detection equipment controlled under ECCN 2A983 that was legally exported or reexported and related software controlled under ECCN 2D983. License Exception Technology and Software—Unrestricted (TSU) may also be used to export or reexport certain operation technology and software controlled under ECCNs 2D983 and 2E983. Special records must be maintained when utilizing such License Exceptions. License Exception Governments, International Organizations, and International Inspections Under the Chemical Weapons Convention (GOV) also is available to export and reexport items controlled under ECCNs 2A983, 2D983 and 2E983 for official use by personnel and agencies of the U.S. Government.

DATES: Effective Date: This rule is effective April 3, 2003.

Comment Dates: Comments on this rule must be received on or before May 19, 2003.

ADDRESSES: Written comments on this rule should be sent to Sheila Quarterman, Regulatory Policy Division, Bureau of Industry and Security, Department of Commerce, P.O. Box 273, Washington, DC 20044, or to E-mail address squarter@bis.doc.gov.

FOR FURTHER INFORMATION CONTACT: Joan Roberts, Director, Foreign Policy Controls Division, Office of Strategic Trade and Foreign Policy Controls, Bureau of Industry and Security, Telephone: (202) 482-0171, E-mail: jroberts@bis.doc.gov.

SUPPLEMENTARY INFORMATION:

Background

Imposition and Expansion of Foreign Policy Controls

The Bureau of Industry and Security (BIS), in this rule, amends the Export Administration Regulations (EAR) by expanding the scope of explosives detection equipment controlled under Export Control Classification Number (ECCN) 2A983, previously 2A993, to include equipment that detects the presence of explosives, explosive residue, or detonators. This rule also creates new ECCNs 2D983 and 2E983 for software and technology designed or modified for the “development”, “production” or “use” of explosives detection equipment controlled under 2A983. This software and technology was previously classified as EAR99. The change in the second digit of the ECCN for explosives detection equipment, from 2A993 to 2A983, more accurately indicates the expanded number of countries to which BIS will control the equipment and related software and technology.

Regional Stability Controls

This rule imposes regional stability (RS) controls on exports and reexports of explosives detection equipment controlled under ECCN 2A983, as well as software and technology controlled under ECCNs 2D983 and 2E983, to all destinations except countries in Country Group A:1, The Czech Republic, Hungary, Iceland, New Zealand and Poland. This is noted in the Country Chart, Supplement 1 to Part 738, by an X in RS column 2. Applications will be reviewed on a case-by-case basis, consistent with the licensing policy set forth for these items in section 742.6 of the EAR.

Anti-Terrorism Controls

Anti-terrorism controls for explosives detection equipment classified under ECCN 2A983, previously 2A993, remain in effect for Iran, North Korea, Sudan, Syria, Cuba and Libya. With the creation of new ECCNs 2D983 and 2E983, BIS is imposing new license requirements for exports or reexports of such related software and technology to Iran, North Korea, Sudan and Syria for anti-terrorism reasons. Controls are maintained on this software and technology with respect to Cuba and Libya, since these items, previously classified as EAR99, were controlled to these countries under part 746 of the EAR. Applications to export or reexport such items to Cuba, Libya, Iran, North Korea, Sudan, and Syria are subject to a general policy of denial. Applications to export items controlled for more than one reason are reviewed under all applicable licensing policies, as provided in § 742.1(f).

Respective Licensing Responsibilities of BIS and the Department of the Treasury

With regard to licensing jurisdiction and licensing responsibilities of BIS and the Department of the Treasury's Office of Foreign Assets Control (OFAC) for exports to embargoed countries, this rule does not affect exports to destinations subject to comprehensive export restrictions—Cuba, Libya, Iran, Iraq and Sudan—since a general policy of denial already applies to such exports. For most of these destinations, BIS and OFAC have allocated licensing responsibility so that exporters need to obtain a license from only one agency. Exporters need a license only from OFAC for exports and reexports to Iraq and Iran, and for exports to Libya. A license is required from both OFAC and BIS for exports and reexports of items controlled under 2A983, 2D983 and 2E983 to Sudan and reexports involving U.S. persons to Libya. Exporters need a license only from BIS for exports and reexports of items controlled under 2A983, 2D983 and 2E983 to Cuba and for reexports of such items by non-U.S. persons to Libya. Exporters need a license only from BIS for exports and reexports of items controlled under 2A983, 2D983 and 2E983 to North Korea and Syria, non-embargoed countries.

BIS will consider transactions involving contracts predating March 21, 2003 for exports or reexports of 2A983, 2D983 and 2E983 items to countries other than those in Country Group E (Supplement 1 to part 740) as set forth in section 742.6(c), as revised herein. For exports of such items to Iran, North Korea, Syria and Sudan, contract sanctity will apply as set forth in Supplement 2 of part 742.

Available License Exceptions—RPL, TSU and GOV

License Exception Servicing and Replacement of Parts and Equipment (RPL) may be used to export and reexport one-for-one replacement parts, and servicing and replacement of equipment to most destinations. The use of RPL, as provided in section 740.10, is restricted to the repair or servicing of explosives detection equipment controlled under ECCN 2A983 and related software controlled under ECCN 2D983 that were previously legally exported or reexported. As set forth in new section 740.10(a)(3)(v), the one-for-one replacement of parts provision set forth in section 740.10(a) may not be used for exports of explosives detection equipment controlled under ECCN 2A983 and related software controlled under ECCN 2D983 to countries in Country Group E:1. Also, as currently set forth in paragraph 740.10(b)(2)(iv), repaired equipment or software may not be exported or reexported to countries in Country Group E:1. Also note that as provided in paragraph 740.10(b)(3)(i)(D), shipments may not be made to Country Group E:1 or to any other destinations to replace defective or otherwise unusable equipment owned or controlled by, or leased or chartered to, a national of any E:1 country.

In addition, License Exception Technology and Software—Unrestricted (TSU), as provided in section 740.13(a), may be used to export and reexport operation technology and software controlled under ECCNs 2D983 and 2E983. This operation technology is the minimum technology necessary for the installation, operation, maintenance (checking), and repair of those products legally exported or reexported that are controlled under 2A983. TSU section 740.13(c) may be used to export and reexport software updates only to correct errors (“fixes” to “bugs”) in software controlled under 2D983 legally exported or reexported (original software). The software updates may be exported or reexported only to the same consignee to whom the software was originally exported or reexported and the software updates may not enhance the functional capabilities of the original software.

License Exception Governments, International Organizations, and International Inspections Under the Chemical Weapons Convention (GOV) may be used to export and reexport items controlled under ECCNs 2A983, 2D983 and 2E983. This exception is restricted to export and reexport of items for official use by U. S. Government personnel and agencies, as set forth in § 740.11(b)(2)(ii).

To ensure accountability while allowing practical maintenance, special records must be maintained when utilizing License Exception RPL to repair or service previously legally exported or reexported items controlled under ECCNs 2A983 and 2D983. The same requirement applies when utilizing License Exception TSU to export or reexport operation technology and software controlled under ECCNs 2D983 and 2E983. The special recordkeeping requirements are described in sections 740.10(c) and 740.13(f), respectively.

BIS is taking this action after consultation with, and upon the recommendation of, the Secretary of State. Consistent with the provisions of the Export Administration Act (EAA), as amended, BIS submitted a foreign policy report to Congress indicating the imposition of new foreign policy controls for regional stability reasons on March 21, 2003.

Although the Export Administration Act expired on August 20, 2001, Executive Order 13222 of August 17, 2001 (66 FR 44025, August 22, 2001), as extended by Notice of August 14, 2002 (67 FR 53721, August 16, 2002), continues the Export Administration Regulations in effect under the International Emergency Economic Powers Act.

Saving Clause

Shipments of items removed from License Exception eligibility or No License Required (NLR) status as a result of this regulatory action that were on dock for loading, on lighter, laden aboard an exporting carrier, or en route aboard a carrier to a port of export, on April 3, 2003, pursuant to actual orders for export to a foreign destination, may proceed to that destination under the previous License Exception eligibility or NLR status provisions so long as they have been exported from the United States before May 5, 2003. Any such items not actually exported before midnight on May 5, 2003 require a license in accordance with this regulation.

Rulemaking Requirements

1. This interim rule has been determined not to be significant for purposes of E.O. 12866.

2. Notwithstanding any other provision of law, no person is required to, nor shall any person be subject to a penalty for failure to comply with a collection of information, subject to the Paperwork Reduction Act (PRA), unless that collection of information displays a currently valid OMB Control Number. This rule involves a collection of information approved by the Office of Management and Budget under control number 0694-0088, “Multi-Purpose Application,” which carries a burden hour estimate of 40 minutes per electronic submission and 45 minutes for a manual submission. This burden hour estimate takes into consideration the reporting time for new license requirements for explosives detection equipment and related software and technology imposed through this final rule, and includes the time for reviewing instructions, searching existing data sources, gathering and maintaining the data needed, and completing and reviewing the collections of information. Public comment is sought regarding whether the proposed collection of information requirements are necessary for the proper performance of the functions of the agency, including whether the information shall have practical utility; the accuracy of the burden estimates; ways to enhance the quality, utility, and clarity of the information to be collected; and ways to minimize the burden of the collection of information, including the use of automated collection techniques or other forms of technology. Send comments regarding this burden estimate or any other aspect of these collections of information, including suggestions for reducing the burden, to OMB Desk Officer, New Executive Office Building, Washington, DC 20503; and to the Regulatory Policy Division, Bureau of Industry and Security, Department of Commerce, P.O. Box 273, Washington, DC 20044.

3. This rule does not contain policies with Federalism implications sufficient to warrant preparation of a Federalism assessment under Executive Order 13132.

4. The provisions of the Administrative Procedure Act (5 U.S.C. 553) requiring notice of proposed rulemaking, the opportunity for public participation, and a delay in effective date, are inapplicable because this regulation involves a military and foreign affairs function of the United States (See 5 U.S.C. 553(a)(1)). Further, no other law requires that a notice of proposed rulemaking and an opportunity for public comment be given for this interim rule. Because a notice of proposed rulemaking and an opportunity for public comment are not required to be given for this rule under Title 5 U.S.C. 553 or by any other law, the analytical requirements of the Regulatory Flexibility Act (5 U.S.C. 601 et seq.) are not applicable.

However, because of the importance of the issues raised by these regulations, this rule is being issued in interim form and BIS will consider comments in the development of the final regulations.

Accordingly, the Department of Commerce (the Department) encourages interested persons who wish to comment to do so at the earliest possible time to permit the fullest consideration of their views.

The period for submission of comments will close May 19, 2003. The Department will consider all comments received before the close of the comment period in developing final regulations. Comments received after the end of the comment period will be considered if possible, but their consideration cannot be assured. The Department will not accept public comments accompanied by a request that a part or all of the material be treated confidentially because of its business proprietary nature or for any other reason. The Department will return such comments and materials to the persons submitting the comments and will not consider them in the development of final regulations. All public comments on these regulations will be a matter of public record and will be available for public inspection and copying. In the interest of accuracy and completeness, the Department requires comments in written form.

Oral comments must be followed by written memoranda, which will also be a matter of public record and will be available for public review and copying. Communications from agencies of the United States Government or foreign governments will not be available for public inspection.

The public record concerning this regulation will be maintained in the Bureau of Industry and Security Freedom of Information Records Inspection Facility, Room 6881, Department of Commerce, 14th Street and Pennsylvania Avenue, NW., Washington, DC. 20230. Records in this facility, including written public comments and memoranda summarizing the substance of oral communications, may be inspected and copied in accordance with regulations published in part 4 of Title 15 of the Code of Federal Regulations. Information about the inspection and copying of records at the facility may be obtained from the Bureau of Industry and Security Freedom of Information Officer, at the above address or by calling (202) 482-0500.

List of Subjects

5 CFR Part 740

Administrative practice and procedure, Exports, Foreign trade, Reporting and recordkeeping requirements.

15 CFR Part 742

Exports, Foreign trade.

15 CFR Part 762

Administrative practice and procedure, Business and industry, Confidential business infromation, Exports, Foreign trade, Reporting and recordkeeping requirements.

15 CFR Part 774

Exports, Foreign trade, Reporting and recordkeeping requirements.

Accordingly, parts 740, 742, 764 and 774 of the Export Administration Regulations (15 CFR parts 730-799) are amended as follows:

1. The authority citation for part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 14, 2002, 67 FR 53721, August 16, 2002.

PART 740—[AMENDED]

2. Section 740.2 is amended by adding paragraph (a)(8) to read as follows:

§ 740.2 Restrictions on all License Exceptions.

(a) * * *

(8) The item is controlled under ECCNs 2A983, 2D983 or 2E983 and the License Exception is other than:

(i) RPL, under the provisions of § 740.10, including § 740.10(a)(3)(v), which prohibits exports and reexports of replacement parts to countries in Country Group E:1 (see Supplement 1 to part 740));

(ii) GOV, restricted to eligibility under the provisions of § 740.11(b)(2)(ii); or

(iii) TSU, under the provisions of § 740.13(a) and (c).

3. Section 740.10 is amended:

a. By redesignating paragraph (a)(3)(v) as (a)(3)(vi) and by adding new paragraph (a)(3)(v) and

b. By adding new paragraph (c) to read as follows:

§ 740.10 Servicing and Replacement of Parts and Equipment (RPL).

* * * * *

(a) * * *

(3) * * *

(v) No replacement parts may be exported to countries in Country Group E:1 if the commodity to be repaired is explosives detection equipment controlled under ECCN 2A983 or related software controlled under ECCN 2D983.

* * * * *

(c) Special recordkeeping requirements: ECCNs 2A983 and 2D983. (1) In addition to any other recordkeeping requirements set forth elsewhere in the EAR, exporters are required to maintain records, as specified in this section, for any items exported or reexported pursuant to License Exception RPL to repair or service previously legally exported or reexported items controlled under ECCNs 2A983 and 2D983. The following information must be specially maintained for each such export or reexport transaction:

(i) A description of the equipment replaced, repaired or serviced;

(ii) The type of repair or service;

(iii) Certification of the destruction or return of equipment replaced;

(iv) Location of the equipment replaced, repaired or serviced;

(v) The name and address of who received the items for replacement, repair or service;

(vi) Quantity of items shipped; and

(vii) Country of ultimate destination.

(2) Records maintained pursuant to this section may be requested at any time by an appropriate BIS official as set forth in § 762.7 of the EAR.

4. Section 740.13 is amended by adding paragraph (f) to read as follows:

§ 740.13 Technology and Software—Unrestricted (TSU).

* * * * *

(f) Special recordkeeping requirements: ECCNs 2D983 and 2E983. In addition to any other recordkeeping requirements set forth elsewhere in the EAR, exporters are required to maintain records, as specified in this paragraph, when exporting operation software or technology controlled under ECCNs 2D983 and 2E983, respectively, under License Exception TSU. Records maintained pursuant to this section may be requested at any time by an appropriate BIS official as set forth in § 762.7 of the EAR. The following information must be specially maintained for each export or reexport transaction, under License Exception TSU, of operation software and technology controlled by ECCNs 2D983 and 2E983:

(1) A description of the software or technology exported or reexported, including the ECCN, as identified on the CCL;

(2) A description of the equipment for which the software or technology is intended to be used, including the ECCN, as indentified on the CCL;

(3) The intended end-use of the software or technology;

(4) The name and address of the end-user;

(5) The quantity of software shipped; and

(6) The location of the equipment for which the software or technology is intended to be used, including the country of destination.

5. The authority citation for part 742 continues to read as follows:

Authority: 50 U.S.C. app. 2401 et seq.; 50 U.S.C. 1701 et seq.; 18 U.S.C. 2510 et seq.; 22 U.S.C. 3201 et seq.; 42 U.S.C. 2139a; Sec. 901-911, Publ. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Notice of November 9, 2001, 66 FR 56965, 3 CFR, 2001 Comp., p. 917; Notice of August 14, 2002, 67 FR 53721, August 16, 2002.

PART 742—[AMENDED]

6. Section 742.6 is amended:

a. By revising paragraph (a)(2);

b. By adding paragraph (b)(3); and

c. By revising paragraph (c) to read as follows:

§ 742.6 Regional stability.

(a) * * *

(2) As indicated in the CCL and in RS Column 2 of the Country Chart (see Supplement No. 1 to part 738 of the EAR), a license is required to any destination except countries in Country Group A:1 (see Supplement No. 1 to part 740 of the EAR), The Czech Republic, Hungary, Iceland, New Zealand and Poland for items described on the CCL under ECCNs 2A983, 2D983 and 2E983, and for military vehicles and certain commodities (specially designed) used to manufacture military equipment, described on the CCL in ECCNs 0A018.c, 1B018.a, 2B018, and 9A018.a and .b.

* * * * *

(b) * * *

(3) For terrorist-designated countries, the applicable licensing policies are found in parts 742 and 746 of the EAR.

* * * * *

(c) Contract sanctity date: March 21, 2003. This contract sanctity date applies only to items controlled under ECCNs 2A983, 2D983 and 2E983 destined for countries not listed in Country Group E (Supplement 1 to part 740). See parts 742 and 746 for the contract sanctity requirements applicable to exports and reexports to countries listed in Country Group E.

* * * * *

7. Section 742.8 is amended by revising the phrase “through (c)(43)” in paragraph (a)(4)(ii) to read “through (c)(44)'.

8. Section 742.9 is amended:

a. By revising the phrase “through (c)(43)” in paragraph (a)(3)(ii) to read “through (c)(44)”;

b. By revising paragraph (b)(1)(vi);

c. By redesignating paragraph (b)(1)(vii) as (b)(1)(ix) and (b)(1)(viii) as (b)(1)(x); and

d. By adding new paragraphs (b)(1)(vii), (b)(1) (viii) and (b)(1)(xi) to read as follows:

§ 742.9 Anti-terrorism: Syria.

(b) * * *

(1) * * *

(vi) Explosives detection equipment controlled under ECCN 2A983.

(vii) “Software” (ECCN 2D983) specially designed or modified for the “development”, “production” or “use” of explosives detection equipment controlled by 2A983.

(viii) “Technology” (ECCN 2E983) specially designed or modified for the “development”, “production” or “use” of explosives detection equipment controlled by 2A983.

* * * * *

(xi) Technology for the production of Chemical Weapons Convention (CWC) Schedule 2 and 3 chemicals controlled under ECCN 1E355.

9. Section 742.10 is amended:

a. By revising the phrase “through (c)(43)” in paragraph (a)(4)(ii) to read “through (c)(44)”;

b. By revising paragraph (b)(1)(vi);

c. By redesignating (b)(1)(vii) as (b)(1)(ix), (b)(1)(viii) as (b)(1)(x) and (b)(1)(ix) as (b)(1)(xi); and

d. By adding new paragraphs (b)(1)(vii) and (b)(1)(viii) to read as follows:

§ 742.10 Anti-terrorism: Sudan.

* * * * *

(b) * * *

(1) * * *

(vi) Explosives detection equipment controlled under ECCN 2A983.

(vii) “Software” (ECCN 2D983) specially designed or modified for the “development”, “production” or “use” of explosives detection equipment controlled by 2A983.

(viii) “Technology” (ECCN 2E983) specially designed or modified for the “development”, “production” or “use” of explosives detection equipment controlled by 2A983.

* * * * *

10. Section 742.19 is amended:

a. By revising the phrase “(c)(6) through (c)(44)” in paragraph (a)(3)(ii) to read “(c)(6) through (c)(45)”;

b. By revising paragraph (b)(1)(xi);

c. By redesignating paragraphs (b)(1)(xii) through (b)(1)(xviii) as (b)(1)(xiv) through (b)(1)(xx);

d. By adding new paragraphs (b)(1)(xii), (b)(1)(xiii) and (b)(1)(xxi); and

e. By revising the phrase “and (c)(44)” in paragraph (b)(3) to read “and (c)(45)” to read as follows:

§ 742.19 Anti-terrorism: North Korea.

* * * * *

(b) * * *

(1) * * *

(xi) Explosives detection equipment controlled under ECCN 2A983.

(xii) “Software” (ECCN 2D983) specially designed or modified for the “development”, “production” or “use” of explosives detection equipment controlled by 2A983.

(xiii) “Technology” (ECCN 2E983) specially designed or modified for the “development”, “production” or “use” of explosives detection equipment controlled by 2A983.

* * * * *

(xxi) Technology for the production of Chemical Weapons Convention (CWC) Schedule 2 and 3 Chemicals controlled under ECCN 1E355.

* * * * *

11. Supplement No. 2 to part 742 is amended:

a. By revising paragraph (b)(3)(ii);

b. By revising paragraph (c)(39);

c. By adding a new paragraph (c)(40);

d. By redesignating paragraphs (c)(41) through (c)(44) as (c)(42) through (c)(45); and

e. By adding a new paragraph (c)(41) to read as follows:

Supplement No. 2 to Part 742—Anti-Terrorism Controls: Iran, North Korea, Syria and Sudan Contract Sanctity Dates and Related Policies

* * * * *

(b) * * *

(3) * * *

(ii) The following items to all end-users: for Iran, items in paragraphs (c)(6) through (c)(44) of this Supplement; for North Korea, items in paragraph (c)(6) through (c)(45) of this Supplement; for Sudan, items in paragraphs (c)(6) through (c)(14), and (c)(16) through (c)(44) of this Supplement; for Syria, items in paragraphs (c)(6) through (c)(8), (c)(10) through (c)(14), (c)(16) through (c)(19), and (c)(22) through (c)(44) of this Supplement.

* * * * *

(c) * * *

(39) Explosives detection equipment described in ECCN 2A983.

(i) Explosives detection equipment described in ECCN 2A983, controlled prior to April 3, 2003 under ECCN 2A993.

(A) Iran. Applications for all end-users in Iran of these items will generally be denied. Contract sanctity date: January 19, 1996.

(B) Syria. Applications for all end-users in Syria of these items will generally be denied. Contract sanctity date: January 19, 1996.

(C) Sudan. Applications for all end-users in Sudan of these items will generally be denied. Contract sanctity date: January 19, 1996.

(D) North Korea. Applications for all end-users in North Korea of these items will generally be denied.

(ii) Explosives detection equipment described in ECCN 2A983, not controlled prior to date April 3, 2003 under ECCN 2A993.

(A) Iran. Applications for all end-users in Iran of these items will generally be denied. Contract sanctity date for reexports by non-U.S. persons: March 21, 2003.

(B) Syria. Applications for all end-users in Syria of these items will generally be denied. Contract sanctity date: March 21, 2003.

(C) Sudan. Applications for all end-users in Sudan of these items will generally be denied. Contract sanctity date for reexports by non-U.S. persons: March 21, 2003.

(D) North Korea. Applications for all end-users in North Korea of these items will generally be denied. Contract sanctity date: March 21, 2003.

(40) “Software” described in ECCN 2D983 specially designed or modified for the “development”, “production” or “use” of explosives detection equipment.

(i) Iran. Applications for all end-users in Iran of these items will generally be denied. Contract sanctity date for reexports by non-U.S. persons: March 21, 2003.

(ii) Syria. Applications for all end-users in Syria of these items will generally be denied. Contract sanctity date: March 21, 2003.

(iii) Sudan. Applications for all end-users in Sudan of these items will generally be denied. Contract sanctity date for reexports by non-U.S. persons: March 21, 2003.

(iv) North Korea. Applications for all end-users in North Korea of these items will generally be denied. Contract sanctity date: March 21, 2003.

(41) “Technology” described in ECCN 2E983 specially designed or modified for the “development”, “production” or “use” of explosives detection equipment.

(i) Iran. Applications for all end-users in Iran of these items will generally be denied. Contract sanctity date for reexports by non-U.S. persons: March 21, 2003.

(ii) Syria. Applications for all end-users in Syria of these items will generally be denied. Contract sanctity date: March 21, 2003.

(iii) Sudan. Applications for all end-users in Sudan of these items will generally be denied. Contract sanctity date for reexports by non-U.S. persons: March 21, 2003.

(iv) North Korea. Applications for all end-users in North Korea of these items will generally be denied. Contract sanctity date: March 21, 2003.

* * * * *

12. The authority citation for part 762 is revised to read as follows:

Authority: 50 U.S.C. app. 2401 et seq.; 50 U.S.C. 1701 et seq.; E.O. 13222, 66 FR 44025, 3 CFR, 2001 Comp., p. 783; Notice of August 14, 2002, 67 FR 53721, August 16, 2002.

PART 762—[AMENDED]

13. Section 762.2 is amended:

By redesignating paragraphs (b)(4) through (41) as (b)(6) through (43) and by adding new paragraphs (b)(4) and (5) to read as follows:

§ 762.2 Records to be retained.

* * * * *

(b) * * *

(4) § 740.10(c), Servicing and replacement of parts and equipment (RPL);

(5) § 740.13(f), Technology and software—unrestricted (TSU);

* * * * *

14. The authority citation for part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 14, 2002, 67 FR 53721, August 16, 2002.

PART 774—[AMENDED]

15. In Supplement No. 1 to part 774, the Commerce Control List, Category 2 (Materials Processing, Chemicals, Microorganisms, and Toxins), is amended by removing Export Control Classification Number (ECCN) 2A993 and adding a new ECCN 2A983 reading as follows:

2A983 Explosives or detonator detection equipment, both bulk and trace based, consisting of an automated device, or combination of devices for automated decision making to detect the presence of different types of explosives, explosive residue, or detonators; and parts and components, n.e.s.

License Requirements

Reason for Control: RS, AT

Control(s) | Country chart
RS applies to entire entry | RS Column 2
AT applies to entire entry | AT Column 1

License Exceptions

LVS: N/A

GBS: N/A

CIV: N/A

List of Items Controlled

Unit: Equipment in number

Related Controls: N/A

Related Definitions: (1) For the purpose of this entry, automated decision making is the ability of the equipment to detect explosives or detonators at the design or operator-selected level of sensitivity and provide an automated alarm when explosives or detonators at or above the sensitivity level are detected. This entry does not control equipment that depends on operator interpretation of indicators such as inorganic/organic color mapping of the items(s) being scanned. (2) Explosives and detonators include commercial charges and devices controlled by 1C018 and 1C992 and energetic materials controlled by ECCNs 1C011, 1C111, 1C239 and 22 CFR 121.1 Category V.

Items:

Note: Explosives or detonation detection equipment in 2A983 includes equipment for screening people, documents, baggage, other personal effects, cargo and/or mail.

a. Explosives detection equipment for automated decision making to detect and identify bulk explosives utilizing, but not limited to, x-ray (e.g., computed tomography, dual energy, or coherent scattering), nuclear (e.g., thermal neutron analysis, pulse fast neutron analysis, pulse fast neutron transmission spectroscopy, and gamma resonance absorption), or electromagnetic techniques (e.g., quadropole resonance and dielectrometry).

b. Explosives detection equipment for automated decision making to detect and identify the presence of explosive residues utilizing, but not limited to, explosives trace detection techniques (e.g., chemiluminesence, ion mobility spectroscopy and mass spectroscopy).

c. Detonator detection equipment for automated decision making to detect and identify initiation devices (e.g. detonators, blasting caps) utilizing, but not limited to, x-ray (e.g. dual energy or computed tomography) or electromagnetic techniques.

16. In Supplement No. 1 to part 774, the Commerce Control List, Category 2 (Materials Processing, Chemicals, Microorganisms, and Toxins), is amended by adding new Export Control Classification Number (ECCN) 2D983 reading as follows:

2D983 “Software” specially designed or modified for the “development”, “production” or “use” of equipment controlled by 2A983.

License Requirements

Reason for Control: RS, AT

Control(s) | Country chart
RS applies to entire entry | RS Column 2
AT applies to entire entry | AT Column 1

License Exceptions

CIV: N/A

TSR: N/A

List of Items Controlled

Unit: $ value

Related Controls: N/A

Related Definitions: N/A

Items: The list of items controlled is contained in the ECCN heading.

17. In Supplement No. 1 part 774, the Commerce Control List, Category 2 (Materials Processing, Chemicals, Microorganisms, and Toxins), is amended by revising the heading of Export Control Classification Number (ECCN) 2E001 reading as follows:

2E001 “Technology” according to the General Technology Note for the “development” of equipment or “software” controlled by 2A (except 2A983, 2A991, or 2A994), 2B (except 2B991, 2B993, 2B996, 2B997, or 2B998), or 2D (except 2D983, 2D991, 2D992, or 2D994).

* * * * *

18. In Supplement No. 1 part 774, the Commerce Control List, Category 2 (Materials Processing, Chemicals, Microorganisms, and Toxins), is amended by revising the heading of Export Control Classification Number (ECCN) 2E002 reading as follows:

2E002 “Technology” according to the General Technology Note for the “production” of equipment controlled by 2A (except 2A983, 2A991, or 2A994), or 2B (except 2B991, 2B993, 2B996, 2B997, or 2B998).

* * * * *

19. In Supplement No. 1 to part 774, the Commerce Control List, Category 2 (Materials Processing, Chemicals, Microorganisms, and Toxins), is amended by adding new Export Control Classification Number (ECCN) 2E983 reading as follows:

2E983 “Technology” specially designed or modified for the “development”, “production” or “use” of equipment controlled by 2A983, or the “development” of software controlled by 2D983.

License Requirements

Reason for Control: RS, AT

Control(s) | Country chart
RS applies to entire entry | RS Column 2
AT applies to entire entry | AT Column 1

License Exceptions

CIV: N/A

TSR: N/A

List of Items Controlled

Unit: N/A

Related Controls: N/A

Related Definitions: N/A

Items: The list of items controlled is contained in the ECCN heading.

Dated: March 24, 2003.
James J. Jochum,
Assistant Secretary for Export Administration.

[FR Doc. 03-7696 Filed 4-2-03; 8:45 am]

BILLING CODE 3510-33-P